DEPARTMENT OF HOMELAND SECURITY

Coast Guard

33 CFR Part 117

[CGD05-07-077]

RIN 1625-AA09

Drawbridge Operation Regulations; Beaufort (Gallants) Channel, Beaufort, NC

AGENCY: Coast Guard, DHS.

ACTION: Notice of temporary deviation from regulations.

SUMMARY: The Commander, Fifth Coast Guard District, has approved a temporary deviation from the regulations governing the operation of the U.S. 70 Bridge across Beaufort (Gallants) Channel, mile 0.1, at Beaufort, NC, to accommodate the running portion of the annual triathlon.

DATES: This deviation is effective from 11:30 a.m. to 2 p.m. on September 8, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Terrance A. Knowles, Environmental Protection Specialist, Fifth Coast Guard District, at (757) 398-6587.

SUPPLEMENTARY INFORMATION: The U.S. 70 Bridge, at mile 0.1, across Beaufort (Gallants) Channel, has a vertical clearance in the closed-to-navigation position of approximately 13 feet above mean high water.

On behalf of the Duke University chapter of the Coastal Society, the North Carolina Department of Transportation (the bridge owner) requested a temporary deviation from the current operating regulation set out in 33 CFR 117.822 to close the drawbridge to navigation to accommodate the annual triathlon fundraiser for the Neuse River Foundation scheduled for Saturday, September 8, 2007. The triathlon is an annual event, attracting participants from the surrounding cities and states.

To facilitate the triathlon run, the U.S. 70 Bridge will be maintained in the closed-to-navigation position from 11:30 a.m. to 2 p.m. on September 8, 2007.

In accordance with 33 CFR 117.35(e), the drawbridge must return to its regular operating schedule immediately at the end of the designated time period. This deviation from the operating regulations is authorized under 33 CFR 117.35.

Dated: July 25, 2007.
Waverly W. Gregory, Jr.,
Chief, Bridge Administration Branch, Fifth Coast Guard District.

[FR Doc. E7-15161 Filed 8-3-07; 8:45 am]

BILLING CODE 4910-15-P